DEPARTMENT OF COMMERCE

National Oceanic and Atmospheric Administration

[I.D 090903B]

Marine Mammals; File No. 782-1702

AGENCY: National Marine Fisheries Service (NMFS), National Oceanic and Atmospheric Administration (NOAA), Commerce.

ACTION: Issuance of permit.

SUMMARY: Notice is hereby given that National Marine Mammal Laboratory, National Marine Fisheries Service, NAA, 7600 Sand Point Way, NE, BIN C15700, Bldg. 1, Seattle, WA 98115-0070, (Dr. Sue Moore, Principal Investigator), has been issued a permit to take California sea lions (Zalophus californianus), harbor seals (Phoca vitulina), and northern elephant seals (Mirounga angustirostris) in California, Washington and Oregon for purposes of scientific research. Samples may be imported/export from/to Canada for analysis under this Permit or Permit No. 782-1694.

ADDRESSES: The permit and related documents are available for review upon written request or by appointment in the following office(s):

Permits, Conservation and Education Division, Office of Protected Resources, NMFS, 1315 East-West Highway, Room 13705, Silver Spring, MD 20910; phone (301)713-2289; fax (301)713-0376; and

Northwest Region, NMFS, 7600 Sand Point Way NE, BIN C15700, Bldg. 1, Seattle, WA 98115-0700; phone (206)526-6150; fax (206)526-6426; and

Alaska Region, NMFS, P.O. Box 21668, Juneau, AK 99802-1668; phone (907)586-7221; fax (907)586-7249.

FOR FURTHER INFORMATION CONTACT: Ruth Johnson or Amy Sloan (301)713-2289.

SUPPLEMENTARY INFORMATION: On June 4, 2003, notice was published in the Federal Register (68 FR 33477) that a request for a scientific research permit to take the species identified above had been submitted by the above-named organization]. The requested permit has been issued under the authority of the Marine Mammal Protection Act of 1972, as amended (16 U.S.C. 1361 et seq.), and the Regulations Governing the Taking and Importing of Marine Mammals (50 CFR part 216).

The purposes of the authorized research to conduct aerial, ground, and vessel surveys annually for stock assessment of harbor seals, California sea lions, and northern elephant seals. Harbor seals, California sea lions, and northern elephant seals will be captured, tagged, and branded for long-term identification of individuals and information on reproductive success, survival and longevity; blood sampling for disease screening; blubber biopsy for contaminant analysis; tissue sampling for genetics and for fatty acid analysis; some seals will be instrumented with VHF radio transmitters and/or Time-Depth Recorders (TDR) or satellite tags or sonic tags to document movements, activity and foraging patterns. In addition, harbor seals will be blood and biopsy sampled for contaminant analysis and tissue sampled for genetic analysis. Harbor seals and California sea lions will be instrumented with VHF radio transmitters and/or time-depth recorders or satellite tags to document movements activity and foraging patterns.

Dated: September 16, 2003.
Stephen L. Leathery,
Chief, Permits, Conservation and Education Division, Office of Protected Resources, National Marine Fisheries Service.

[FR Doc. 03-25821 Filed 10-9-03; 8:45 am]

BILLING CODE 3510-22-S